DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 16, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Pre-Screening Notice and Certification Request for the Work Opportunity Credit.

OMB Number: 1545-1593.

Form Number: Form 1041-QFT.

Abstract: Internal Revenue Code section 685 allows the trustee of certain trusts to make an election for the trust to be taxed as a qualified funeral trust (QFT). The trustee of a QFT files Form 1041-QFT to report the income, deductions, gains, losses, and tax liability of the QFT. The IRS uses the information on the form to determine that the trustee filed the proper return and paid the correct tax.

Type of Review: Revision of a currently approved collection.

Affected Public: Business or other for-profit organizations, Federal Government, individuals or households, and not-for-profit institutions.

Estimated Number of Responses: 15,000.

Estimated Time per Respondent: 20.7 hours.

Estimated Total Annual Burden Hours: 310,350.

2. Title: Form 8835, Renewable Electricity Production Credit.

OMB Number: 1545-1362.

Form Number: Form 8835.

Abstract: Form 8835 is used to claim the renewable electricity production credit. The credit is allowed for the sale of electricity produced in the United States or U.S. territories from qualified energy resources at a qualified facility. The IRS uses the information reported on the form to ensure that the credit is correctly computed.

Current Actions: There are changes to the existing collection. The form was revised to include information about the qualified facility, add lines for new credits, and remove lines for expired credits. The estimated number of responses was reduced to eliminate duplication of burden estimates. The estimated burden for individuals filing Form 8835 is approved under OMB control number 1545-0074, and the estimated burden for businesses filing Form 8835 is approved under OMB control number 1545-0123.

Type of Review: Revision of a currently approved collection.

Affected Public: Business or other for-profit organizations; not-for-profit organizations.

Estimated Number of Responses: 40.

Estimated Time per Respondent: 17 hours, 43 minutes.

Estimated Total Annual Burden Hours: 697.

(Authority: 44 U.S.C. 3501 et seq.)

Melody Braswell,
Treasury PRA Clearance Officer.

[FR Doc. 2023-27394 Filed 12-13-23; 8:45 am]

BILLING CODE 4830-01-P